DEPARTMENT OF HEALTH AND HUMAN SERVICES

Centers for Disease Control and Prevention

[Program Announcement DP05-133]

Mind/Body Research and Chronic Disease Conditions; Notice of Intent To Fund a Sole Source Award

A. Purpose

The Centers for Disease Control and Prevention (CDC) announces the intent to fund fiscal year (FY) 2005 funds for a grant program to support research on the impact and effectiveness of relaxation and stress reduction on chronic health conditions. This announcement will build on research currently being conducted in this area by the Beth Israel Deaconess Medical Center (BIDMC), Mind/Body Medical Institute (MBMI). The results from this study will continue to generate new knowledge on the physiologic mechanisms of the relaxation response, mechanisms of acute changes, and identification of those most likely to benefit in a specific clinical model.

The Catalog of Federal Domestic Assistance number for this program is 93.283.

B. Eligible Applicant

Assistance will be provided only to the Beth Israel Deaconess Medical Center (BIDMC), Mind/Body Medical Institute (MBMI), Harvard Medical School, 824 Boylston Street, Chestnut Hill, MA 02467. No other applications will be solicited.

The BIDMC, MBMI is specifically referenced in the House of Representatives 2nd Session Conference Report 108-792. Page 1161 of the report states: “Within amounts provided for Community Health Promotion: * * * $1,974,000 is for the Mind-Body Institute in Boston, Massachusetts to continue practice-based assessments, identification, and study of promising and heavily-used mind/body practices.”

The BIDMC, MBMI is a non-profit scientific and educational organization dedicated to the study of mind/body interactions, including the relaxation response. The institute uses its expertise to enhance the recognition and understanding of mind/body medicine's role in the practice of medicine to foster and expand the uses of mind/body interaction in health care and other appropriate settings, thereby advancing health and well-being throughout the world. Today over 9,000 patients throughout the United States participate in the institutes clinical programs.

The MBMI is the foundation of mind/body medicine as practiced at the BIDMC, MBMI. It is based on the work of Herbert Benson, MD and colleagues at Harvard Medical School. Their pioneering research led to the definition of the relaxation response. The BIDMC, MBMI trains health care professionals from the U.S. and around the world in their highly successful clinical techniques.

The mission of the BIDMC, MBMI, its long history of research in relaxation response, and the institution's extensive network of resources make it highly probable that the BIDMC, MBMI will successfully achieve the activities identified in Section 1 of this RFA; therefore, it is the only eligible organization to conduct the research supported by this RFA.

C. Funding

Approximately $1,916,915 is available in FY 2005 to fund this award September 30, 2005 and will be made for a 12-month budget period within a project period of up to three years. Funding estimates may change.

D. Where To Obtain Additional Information

For general comments or questions about this announcement, contact: Technical Information Management, CDC Procurement and Grants Office, 2920 Brandywine Road, Atlanta, GA 30341-4146, Telephone: 770-488-2700.

For technical questions about this program, contact: Brenda Colley Gilbert, Project Officer, 4770 Buford Highway N.E., Mailstop K-92, Atlanta, GA 30341, Telephone: 770-488-8390, E-mail: BColleyGilbert@cdc.gov.

Dated: August 29, 2005.
William P. Nichols,
Director, Procurement and Grants Office, Centers for Disease Control and Prevention.

[FR Doc. 05-17492 Filed 9-1-05; 8:45 am]

BILLING CODE 4163-18-P